FEDERAL DEPOSIT INSURANCE CORPORATION

12 CFR Parts 303 and 308

RIN 3064-AF19

Incorporation of Existing Statement of Policy Regarding Requests for Participation in the Affairs of an Insured Depository Institution by Convicted Individuals; Extension of Comment Period

AGENCY: Federal Deposit Insurance Corporation.

ACTION: Notice of proposed rulemaking; extension of comment period.

SUMMARY: On December 16, 2019, the Federal Deposit Insurance Corporation (FDIC) published in the Federal Register a Notice of Proposed Rulemaking (Notice) that proposed to revise the existing regulations requiring persons convicted of certain criminal offenses to obtain prior written consent before participating in the conduct of the affairs of any depository institution to incorporate the FDIC's existing Statement of Policy, and to amend the regulations setting forth the FDIC's procedures and standards applicable to an application to obtain the FDIC's prior written consent. The FDIC has determined that an extension of the comment period until March 16, 2020, is appropriate.

DATES: The comment period for the Notice published on December 16, 2019 (84 FR 68353), is extended from February 14, 2020, to March 16, 2020.

ADDRESSES: You may submit comments by any of the methods identified in the proposal.

FOR FURTHER INFORMATION CONTACT: Brian Zeller, Review Examiner, (319) 395-7394 x4125, or Larisa Collado, Section Chief, (202) 898-8509, in the Division of Risk Management Supervision; or Graham N. Rehrig, Senior Attorney, (202) 898-3829, John Dorsey, Acting Supervisory Counsel, (202) 898-3807, or Andrea Winkler, Acting Assistant General Counsel, (202) 898-3727 in the Legal Division.

SUPPLEMENTARY INFORMATION: On December 16, 2019, the FDIC published in the Federal Register a Notice that proposed to revise the existing regulations requiring persons convicted of certain criminal offenses to obtain prior written consent before participating in the conduct of the affairs of any depository institution to incorporate the FDIC's existing Statement of Policy, and to amend the regulations setting forth the FDIC's procedures and standards applicable to an application to obtain the FDIC's prior written consent. The Notice sought comment from the public regarding “the scope of Section 19, possible amendments to the relief process, the scope of the de minimis offense exemption, and the treatment of expunged criminal records,” as well as comments related to the expected effects of the proposed rule. The Notice stated that the comment period would close on February 14, 2020. The FDIC has received a request to extend the comment period. An extension of the comment period would provide additional opportunity for the public to prepare comments to address questions posed by the FDIC. Therefore, the FDIC is extending the end of the comment period for the Notice from February 14, 2020, to March 16, 2020.

Federal Deposit Insurance Corporation.
Dated at Washington, DC, on January 22, 2020.
Annmarie H. Boyd,
Assistant Executive Secretary.

[FR Doc. 2020-01298 Filed 1-24-20; 8:45 am]

BILLING CODE 6714-01-P